DEPARTMENT OF TRANSPORTATION

Federal Aviation Administration

Sixty-Eighth Meeting, Special Committee 135, Environmental Conditions and Test Procedures for Airborne Equipment

AGENCY: Federal Aviation Administration (FAA), U.S. Department of Transportation (DOT).

ACTION: Sixty-Eighth Meeting, Special Committee 135, Environmental Conditions and Test Procedures for Airborne Equipment.

SUMMARY: The FAA is issuing this notice to advise the public of a meeting of Sixty-Eighth Meeting, Special Committee 135, Environmental Conditions and Test Procedures for Airborne Equipment.

DATES: The meeting will be held October 27, 2016, 9:00 a.m.

ADDRESSES: The meeting will be held at: Federal Aviation Administration, Rotorcraft Directorate, Conference Room CC-10C/F, 10101 Hillwood Parkway, Fort Worth, TX 76177.

FOR FURTHER INFORMATION CONTACT: Rebecca Morrison at rmorrison@rtca.org or (202) 330-0654 or The RTCA Secretariat, 1150 18th Street NW., Suite 910, Washington, DC, 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Sixty-Eighth Meeting, Special Committee 135, Environmental Conditions and Test Procedures for Airborne Equipment. The agenda will include the following:

Working Groups October 25-26:

October 25 a.m. Session: Ground Reference Fluctuations/IMA

October 25 p.m. Session: RF Susceptibility

October 26 a.m. Session: Explosion, Water, Fluids/Sections 1-3

October 26 p.m. Session: Power Inputs

Thursday, October 27, 2016 at 9:00am

1. Chairmen's Opening Remarks, Introductions.

2. Approval of Summary from the Sixty-Seventh Meeting—(RTCA Paper No. 185-16/SC135-708).

3. Review Working Group Summaries.

4. Flammability Update—Enclosure Fire Test

5. Review Terms of Reference.

6. New/Unfinished Business.

7. Establish Date for Next SC-135 Meeting.

8. Closing.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 9, 2016.
Mohannad Dawoud
Management & Program Analyst, Partnership Contracts Branch, ANG-A17, NextGen, Procurement Services Division, Federal Aviation Administration.

[FR Doc. 2016-19409 Filed 8-12-16; 8:45 am]

BILLING CODE 4910-13-P